DEPARTMENT OF DEFENSE

Office of the Secretary

Submission for OMB Review; Comment Request

ACTION: Notice.

The Department of Defense has submitted to OMB for clearance, the following proposal for collection of information under the provision of the Paperwork Reduction Act (44 U.S.C. Chapter 35).

Title, Form, and OMB Number: Family Support Center Information; AF Forms 2800, 2801, and 2805; OMB Number 0701-0070.

Type of Request: Reinstatement.

Number of Respondents: 10,000.

Responses per Respondent: 3.

Annual Responses: 30,000.

Average Burden Per Response: 5 minutes (average).

Annual Burden Hours: 2,666.

Needs and Uses: The information collection requirement is necessary to obtain demographic data about individuals and family members who utilize the services of the Family Support Center. It is also a mechanism for tracking the services provided in order to determine program usage and trends as well as program evaluation, service targeting, and future budgeting. In addition, the information collection provides demographic data on volunteers and tracks volunteer service. The data elements of this information collection are the basis for quarterly data gathering which is forwarded through the Major Commands to the Air Staff.

Affected Public: Individuals or Households.

Frequency: On Occasion.

Respondent's Obligation: Voluntary.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: November 30, 2000.
Patricia L. Toppings,
Alternate OSD Federal Register Liaison Officer, Department of Defense.

[FR Doc. 00-31240 Filed 12-7-00; 8:45 am]

BILLING CODE 5001-10-M